DEPARTMENT OF THE INTERIOR

Bureau of Ocean Energy Management

[Docket No. BOEM-2022-0021]

Notice of Availability of a Draft Environmental Impact Statement for Ocean Wind, LLC's Proposed Wind Energy Facility Offshore New Jersey; Extension of Comment Period

AGENCY: Bureau of Ocean Energy Management (BOEM), Interior.

ACTION: Draft environmental impact statement (DEIS); extension of comment period.

SUMMARY: On June 24, 2022, BOEM published a notice of availability (NOA) in the Federal Register announcing a public comment period regarding the DEIS for Ocean Wind, LLC's (Ocean Wind) construction and operations plan (COP) for a proposed wind energy facility offshore New Jersey. BOEM is extending the comment period on the DEIS. This notice announces a 15-day extension of the public comment period from August 8, 2022, to August 23, 2022. After BOEM addresses comments provided, BOEM will publish a final environmental impact statement (FEIS). The FEIS will inform BOEM's decision whether to approve, approve with modifications, or disapprove the COP.

DATES: Comments must be received no later than August 23, 2022.

ADDRESSES: The DEIS and detailed information about Ocean Wind's project, including the COP, can be found on BOEM's website at: https://www.boem.gov/renewable-energy/state-activities/ocean-wind-1. Comments can be submitted in any of the following ways:

• In written form by mail, enclosed in an envelope labeled “Ocean Wind 1 COP DEIS” and addressed to Program Manager, Office of Renewable Energy Programs, Bureau of Ocean Energy Management, 45600 Woodland Road, Sterling, VA 20166.

• Through the regulations.gov web portal: Navigate to https://www.regulations.gov and search for Docket No. BOEM-2022-0021. Click on the “Comment” button below the document link. Enter your information and comment, then click “Submit Comment.”

FOR FURTHER INFORMATION CONTACT: Jessica Stromberg, BOEM Office of Renewable Energy Programs, 45600 Woodland Road, Sterling, Virginia 20166, (703) 787-1730 or jessica.stromberg@boem.gov.

SUPPLEMENTARY INFORMATION: Please refer to the NOA published in the Federal Register (87 FR 37883) on June 24, 2022, for further information. Comments already submitted in response to the June 24, 2022, NOA do not need to be resubmitted. BOEM does not consider anonymous comments. Please include your name and address as part of your comment. BOEM makes all comments in their entirety, including your name and address, available for public review online and during regular business hours. You may request that BOEM withhold your name, address, or any other personal identifiable information (PII) included in your comment from the public record. However, BOEM cannot guarantee that it will be able to do so. If you wish your name, address, or other PII to be withheld, you must state your request prominently in a cover letter and explain the harm that you fear from its disclosure such as unwarranted privacy invasion, embarrassment, or injury. All submissions from organizations or businesses and from individuals identifying themselves as representatives or officials of organizations or businesses will be made available for public inspection in their entirety.

Authority: 42 U.S.C. 4231 et seq. (NEPA, as amended) and 40 CFR 1506.6.

William Y. Brown,
Chief Environmental Officer, Bureau of Ocean Energy Management.

[FR Doc. 2022-16647 Filed 8-4-22; 8:45 am]

BILLING CODE 4310-MR-P